FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than November 27, 2020.

A. Federal Reserve Bank of Dallas (Robert L. Triplett III, Senior Vice President) 2200 North Pearl Street, Dallas, Texas 75201-2272:

1. Laurie Lewis Saunders, John T. Saunders III, Steve C. Lewis, Richard S. Lewis II, A.J. Lewis III, A.J. Lewis, IV, Frances M. Lewis, and Sallie W. Lewis, all of San Antonio, Texas; all individually, and as trustee or voting appointee for one or more of the following trusts: the Laurie Lewis Saunders Family 2007 Trust One, the Laurie Lewis Saunders Family 2007 Trust Two, the A.J. Lewis Jr. Trust FBO Laurie Lewis Saunders, the Peggy W. Lewis Article III GST Exempt Trust FBO Laurie Lewis Saunders, the Christina M. Saunders Trust, the John T. Saunders III Trust, the Virginia G. Saunders Trust, the Steve C. Lewis Family 2007 Trust One, the Steve C. Lewis Family 2007 Trust Two, the A.J. Lewis, Jr. Trust FBO Steve C. Lewis, the Peggy W. Lewis Article III GST Exempt Trust FBO Steve C. Lewis, the Barclay C. Adams Grantor Trust, the Richard S. Lewis II Grantor Trust, the Adams Family 2019 GST—Exempt Trust, the Richard S. Lewis 11 Family 2018 Trust, the A.J. Lewis III Family 2007 Trust One, the A.J. Lewis III Family Trust Two, the A.J. Lewis, Jr. Trust FBO A.J. Lewis III, the Peggy W. Lewis Article III GST Exempt Trust FBO A.J. Lewis III, the Frances Marguerite Lewis Grantor Trust, the A.J. Lewis IV Grantor Trust, the Sallie Wolff Lewis Grantor Trust, the A.J. Lewis IV Family Trust One, the A.J. Lewis IV Family Trust Two, the Frances M. Lewis Family Trust One, the Frances M. Lewis Family Trust Two, the Sallie W. Lewis Family Trust One, the Sallie W. Lewis Family Trust Two, all of San Antonio Texas, and

Susan C. Lewis, Christina M. Saunders, Barclay C. Adams, all of San Antonio, Texas; and Kenneth S. Adams IV, Nashville, Tennessee; to become members of the Lewis Family Group, a group acting in concert, to retain the voting shares of Jefferson Bancshares, Inc., and thereby indirectly retain the voting shares of Jefferson Bank, both of San Antonio, Texas.

2. Paul E. McSween III, Linda Lewis McSween, Juliet McSween Zacher, Jennifer McSween Canavan, Linda McSween Satel, all of San Antonio, Texas; all individually, and as grantor, trustee, or voting appointee for one or more of the following trusts: the Paul E. McSween III Family 2011 Trust One, the Paul E. McSween III Family 2011 Trust Two, the Paul E. McSween IV Grantor Trust, the Thomas D. McSween Grantor Trust, the Benjamin Lewis McSween Grantor Trust, the Linda Lewis McSween Trust, the Jennifer McSween Canavan Family 2011 Trust One, Jennifer McSween Canavan Family 2011 Trust Two, the Jennifer McSween Canavan Management Trust, the Juliet W. McSween Zacher Family 2011 Trust One, Juliet W. McSween Zacher Family 2011 Trust Two, the Juliet McSween Zacher Management Trust, the Linda G. McSween Satel Family 2011 Trust One, the Linda G. McSween Satel Family 2011 Trust Two, the Linda McSween Satel Management Trust, the Katherine Ann Satel Grantor Trust, the Emily Grace Satel Grantor Trust, and the Caroline McSween Satel Grantor Trust, all of San Antonio, Texas; and

Caroline M. Satel, Katherine Ann Satel, Emily Grace Satel, Joseph S. Satel, Jr., Paul E. McSween IV, Thomas D. McSween, Benjamin Lewis McSween, Crain McSween Canavan, William Jackson Canavan, Josephine Grace Canavan, Walker Cole Canavan, August Andrew Zacher, Annabelle McSween Zacher, and the Richard Spencer Lewis Memorial Foundation, all of San Antonio, Texas; to become members of the McSween Family Control Group, a group acting in concert, to retain the voting shares of Jefferson Bancshares, Inc., and thereby indirectly retain the voting shares of Jefferson Bank, both of San Antonio, Texas.

Board of Governors of the Federal Reserve System, November 6, 2020.
Ann Misback,
Secretary of the Board.

[FR Doc. 2020-25010 Filed 11-10-20; 8:45 am]

BILLING CODE P